DEPARTMENT OF ENERGY

Federal Energy Regulatory Commission

[Docket No. CP02-139-000]

Northern Natural Gas Company; Notice of Application

April 12, 2002.

Take notice that on April 3, 2002, Northern Natural Gas Company (Northern), 1111 South 103rd Street, Omaha, Nebraska 68124-1000, filed in Docket No. CP02-139-000 an application pursuant to Section 7 of the Natural Gas Act (NGA) and the Commission's Rules and Regulations for a certificate of public convenience and necessity authorizing Northern to install and operate certain natural gas facilities at its Beatrice Compressor Station located in Gage County, Nebraska, to provide incremental capacity on the downstream pipeline system, all as more fully set forth in the application which is on file with the Commission and open to public inspection. This filing may also be viewed on the web at http://www.ferc.gov using the “RIMS” link, select “Docket #” and follow the instructions (call 202-208-2222 for assistance).

Specifically, Northern proposes to install a new 6-inch control valve (which will be tied into and controlled from the existing station program logic computer) in the existing 24-inch header at the discharge of the Beatrice Compressor Station. A ball valve will be installed upstream of the proposed control valve for isolation during maintenance. Two anubars will be installed in the 24-inch header to measure flows to the C- and B-Lines. Northern states that additional over-pressure protection will also be required in the station yard.

Northern states that there are currently eight compressor units at the Beatrice Compressor Station for a total of 32,500 horsepower (hp). Northern states that it conducted an Open Season from April 30, 2001 through June 22, 2001 soliciting interest for an expansion project in its Market Area (Project MAX). According to Northern, the Open Season was intended to identify and quantify market growth opportunities and the need to construct facilities necessary to serve the incremental capacity requirements that will commence during the five year period from 2003 to 2007. Upon evaluation of the requests received and a facility analysis, Northern determined that 90,000 Mcf/d of incremental capacity could be made available with minor modifications at its Beatrice Compressor Station. The proposed modifications will allow Northern to better utilize its existing pipeline capacity and compression at the station by allowing gas from the D-Line to flow into the C-Line. Northern contends that the 90,000 Mcf/d of incremental volume will be able to flow downstream of the Beatrice Compressor Station by alleviating a throughput constraint at the station and thereby improving the operational efficiency, reliability, and flexibility on this portion of its system.

Northern proposes to install minor modifications at its Beatrice station to make this incremental capacity available to its customers as soon as practicable. Northern states that the capacity will be dedicated to the firm market requirements related to Project MAX beginning November 2003. The incremental capacity will be posted on Northern's internet website and will be made available to all of Northern's shippers on a non-discriminatory basis beginning with the 2002/2003 heating season. Northern states that starting in November 2003, the Project MAX shippers will then utilize the incremental capacity until it is fully subscribed in November 2007. Northern notes that any contracts that are entered into during the interim period will not have the Right of First Refusal to the extent that the capacity is dedicated to shippers pursuant to Firm Agreements as part of Project MAX.

Northern asserts that all construction activity will be conducted within the existing fenced area of its compressor station. Northern estimates that the capital cost for this project is $290,000 that will be funded with internally generated funds. Northern notes that it will be at risk for the recovery of the costs associated with the proposed modifications and is not requesting a determination of rolled-in pricing at this time, however, Northern states that it may, at the time it files with the Commission for the Project MAX facilities, request rolled-in treatment of the total project costs. Northern asks that the Commission issue an order granting approval of the proposed project no later than August 1, 2002.

Any questions regarding the application should be directed to Mary Kay Miller, Vice President, Rates & Certificates, Northern Natural Gas Company, P.O. Box 3330, Omaha, Nebraska 68103-0330, telephone (402) 398-7060 or Michael W. McGowan, Vice President, Certificates and Community Relations, Northern Natural Gas Company 1111 South 103rd Street, Omaha, Nebraska 68124, telephone (402) 398-7110.

There are two ways to become involved in the Commission's review of this project. First, any person wishing to obtain legal status by becoming a party to the proceedings for this project should, on or before May 3, 2002, file with the Federal Energy Regulatory Commission, 888 First Street, NE., Washington, DC 20426, a motion to intervene in accordance with the requirements of the Commission's rules of practice and procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Magalie R. Salas,
Secretary.

[FR Doc. 02-9471 Filed 4-17-02; 8:45 am]

BILLING CODE 6717-01-P